DEPARTMENT OF TRANSPORTATION

Federal Aviation Administration

14 CFR Part 39

[Docket No. FAA-2018-1069; Product Identifier 2018-NM-128-AD; Amendment 39-19677; AD 2019-13-04]

RIN 2120-AA64

Airworthiness Directives; ATR-GIE Avions de Transport Régional Airplanes

AGENCY: Federal Aviation Administration (FAA), Department of Transportation (DOT).

ACTION: Final rule.

SUMMARY: The FAA is adopting a new airworthiness directive (AD) for certain ATR-GIE Avions de Transport Régional Model ATR72 airplanes. This AD was prompted by a determination that new or more restrictive maintenance instructions and airworthiness limitations are necessary. This AD requires revising the existing maintenance or inspection program, as applicable, to incorporate new or more restrictive maintenance instructions and airworthiness limitations. The FAA is issuing this AD to address the unsafe condition on these products.

DATES: This AD is effective August 26, 2019.

The Director of the Federal Register approved the incorporation by reference of a certain publication listed in this AD as of August 26, 2019.

ADDRESSES: For service information identified in this final rule, contact ATR-GIE Avions de Transport Régional, 1 Allée Pierre Nadot, 31712 Blagnac Cedex, France; telephone +33 (0) 5 62 21 62 21; fax +33 (0) 5 62 21 67 18; email continued.airworthiness@atr-aircraft.com; internet http://www.atr-aircraft.com. You may view this service information at the FAA, Transport Standards Branch, 2200 South 216th St., Des Moines, WA. For information on the availability of this material at the FAA, call 206-231-3195. It is also available on the internet at http://www.regulations.gov by searching for and locating Docket No. FAA-2018-1069.

Examining the AD Docket

You may examine the AD docket on the internet at http://www.regulations.gov by searching for and locating Docket No. FAA-2018-1069; or in person at Docket Operations between 9 a.m. and 5 p.m., Monday through Friday, except Federal holidays. The AD docket contains this final rule, the regulatory evaluation, any comments received, and other information. The address for Docket Operations is U.S. Department of Transportation, Docket Operations, M-30, West Building Ground Floor, Room W12-140, 1200 New Jersey Avenue SE, Washington, DC 20590.

FOR FURTHER INFORMATION CONTACT: Shahram Daneshmandi, Aerospace Engineer, International Section, Transport Standards Branch, FAA, 2200 South 216th St., Des Moines, WA 98198; telephone and fax 206-231-3220.

SUPPLEMENTARY INFORMATION:

Discussion

The FAA issued a notice of proposed rulemaking (NPRM) to amend 14 CFR part 39 by adding an AD that would apply to all ATR-GIE Avions de Transport Régional Model ATR72 airplanes. The NPRM published in the Federal Register on February 14, 2019 (84 FR 4012). The NPRM was prompted by a determination that new or more restrictive maintenance instructions and airworthiness limitations are necessary. The NPRM proposed to require revising the existing maintenance or inspection program, as applicable, to incorporate new or more restrictive maintenance instructions and airworthiness limitations.

The FAA is issuing this AD to address fatigue cracking and damage in principal structural elements, which could result in reduced structural integrity of the airplane.

The European Aviation Safety Agency (EASA), which is the Technical Agent for the Member States of the European Union, has issued EASA AD 2018-0184, dated August 28, 2018 (referred to after this as the Mandatory Continuing Airworthiness Information, or “the MCAI”), to correct an unsafe condition for all ATR-GIE Avions de Transport Régional Model ATR72 airplanes. The MCAI states:

The airworthiness limitations and certification maintenance requirements (CMR) for ATR aeroplanes, which are approved by EASA, are currently defined and published in the TLD [time limits document]. These instructions have been identified as mandatory for continued airworthiness.

Failure to accomplish these instructions could result in an unsafe condition.

Previously, EASA issued AD 2017-0223 (later revised) to require accomplishment of the actions specified in the TLD at Revision 15.

Since EASA AD 2017-0223R1 [which corresponds to FAA AD 2018-14-11, Amendment 39-19331 (83 FR 34031, July 19, 2018) (“AD 2018-14-11”)] was issued, ATR published Revision 16 of the TLD for ATR 72 aeroplanes, introducing new and/or more restrictive airworthiness limitations and/or maintenance actions.

For the reasons described above, this [EASA] AD retains the requirements of EASA AD 2017-0223R1, which is superseded, and requires accomplishment of the actions specified in the TLD.

This AD requires revising the existing maintenance or inspection program to incorporate certain maintenance instructions and airworthiness limitations. The unsafe condition is fatigue cracking and damage in principal structural elements, which could result in reduced structural integrity of the airplane. You may examine the MCAI in the AD docket on the internet at http://www.regulations.gov by searching for and locating Docket No. FAA-2018-1069.

Comments

The FAA gave the public the opportunity to participate in developing this final rule. The following presents the comment received on the NPRM and the FAA's response.

Request To Clarify the Proposed Terminating Action

Empire Airlines requested clarification of the terminating action specified in the proposed AD. Empire Airlines pointed out that paragraph (k) of the proposed AD stated that accomplishing the actions required by the proposed AD would terminate all requirements of AD 2018-14-11. Empire Airlines explained that paragraph (j) of AD 2018-14-11 states that, accomplishing the actions required by paragraph (g) of that AD terminates all requirements of AD 2000-23-26, Amendment 39-11999 (65 FR 70775, November 28, 2000); and AD 2008-04-19 R1, Amendment 39-16069 (74 FR 56713, November 3, 2009). Therefore, Empire Airlines asked if the terminating action specified in paragraph (j) of AD 2018-14-11 is still applicable in the proposed AD.

The FAA agrees to provide clarification for the commenter. Paragraph (k) of the proposed AD stated that accomplishing the proposed actions would terminate all requirements of AD 2018-14-11, including paragraph (j) of AD 2018-14-11, which terminates all requirements of AD 2000-23-26 and AD 2008-04-19 R1. However, the FAA's intent is that paragraph (k) of the proposed AD terminates all requirements of AD 2000-23-26 and AD 2008-04-19 R1, along with AD 2018-14-11. Therefore, the agency has revised paragraph (k) of this AD to specify that the actions required by this AD also terminate the requirements of AD 2000-23-26 and AD 2008-04-19 R1.

Conclusion

The FAA reviewed the relevant data, considered the comments received, and determined that air safety and the public interest require adopting this final rule with the changes described previously and minor editorial changes. The FAA has determined that these minor changes:

• Are consistent with the intent that was proposed in the NPRM for addressing the unsafe condition; and

• Do not add any additional burden upon the public than was already proposed in the NPRM.

The FAA has also determined that these changes will not increase the economic burden on any operator or increase the scope of this final rule.

Related Service Information Under 1 CFR Part 51

ATR-GIE Avions de Transport Régional has issued ATR72 Time Limits Document, Revision 16, dated January 30, 2018. This service information describes preventive maintenance requirements and includes updated limitations, tasks, thresholds and intervals to be incorporated into the existing maintenance or inspection program.

This service information is reasonably available because the interested parties have access to it through their normal course of business or by the means identified in the ADDRESSES section.

Costs of Compliance

The FAA estimates that this AD affects 23 airplanes of U.S. registry. The agency estimates the following costs to comply with this AD:

The FAA determined that revising the existing maintenance or inspection program takes an average of 90 work-hours per operator, although the agency recognizes that this number may vary from operator to operator. In the past, the FAA has estimated that this action takes 1 work-hour per airplane. Since operators incorporate maintenance or inspection program changes for their affected fleet(s), the agency has determined that a per-operator estimate is more accurate than a per-airplane estimate. Therefore, the FAA estimates the total cost per operator to be $7,650 (90 work-hours × $85 per work-hour).

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2019-13-04 ATR-GIE Avions de Transport Régional: Amendment 39-19677; Docket No. FAA-2018-1069; Product Identifier 2018-NM-128-AD.

(a) Effective Date

This AD is effective August 26, 2019.

(b) Affected ADs

This AD affects AD 2018-14-11, Amendment 39-19331 (83 FR 34031, July 19, 2018) (“AD 2018-14-11”); AD 2000-23-26, Amendment 39-11999 (65 FR 70775, November 28, 2000) (“AD 2000-23-26”); and AD 2008-04-19 R1, Amendment 39-16069 (74 FR 56713, November 3, 2009) (“AD 2008-04-19 R1”).

(c) Applicability

This AD applies to ATR-GIE Avions de Transport Régional Model ATR72-101, -102, -201, -202, -211, -212, and -212A airplanes, certificated in any category, with an original airworthiness certificate or original export certificate of airworthiness issued on or before January 30, 2018.

(d) Subject

Air Transport Association (ATA) of America Code 05, Time Limits/Maintenance Checks.

(e) Reason

This AD was prompted by a determination that new or more restrictive maintenance instructions and airworthiness limitations are necessary. The FAA is issuing this AD to prevent fatigue cracking and damage in principal structural elements, which could result in reduced structural integrity of the airplane.

(f) Compliance

Comply with this AD within the compliance times specified, unless already done.

(g) Maintenance or Inspection Program Revision

Within 90 days after the effective date of this AD, revise the existing maintenance or inspection program, as applicable, to incorporate the information specified in ATR ATR72 Time Limits Document, Revision 16, dated January 30, 2018. The initial compliance time for doing the tasks is at the time specified in ATR ATR72 Time Limits Document, Revision 16, dated January 30, 2018, or within 90 days after the effective date of this AD, whichever occurs later, except as provided by paragraphs (h) and (i) of this AD.

(h) Initial Compliance Times for Certain Tasks

For accomplishing airworthiness limitations (AWL) and certification maintenance requirement (CMR)/maintenance significant item (MSI) tasks identified in figure 1 to paragraph (h) of this AD, the initial compliance time is at the applicable time specified in the airworthiness limitations section (ALS) of the ATR ATR72 Time Limits Document, Revision 16, dated January 30, 2018, or at the applicable compliance time in figure 1 to paragraph (h) of this AD, whichever occurs later.

(i) Initial Compliance Time: One-Time Initial Threshold

For CMR task 220000-5, a one-time initial threshold, as specified in ATR ATR72 Time Limits Document, Revision 16, dated January 30, 2018, is allowed as specified in figure 2 to paragraph (i) of this AD.

(j) No Alternative Actions and Intervals

After the existing maintenance or inspection program has been revised as required by paragraph (g) of this AD, no alternative actions (e.g., inspections) and intervals may be used unless the actions and intervals are approved as an alternative method of compliance (AMOC) in accordance with the procedures specified in paragraph (l)(1) of this AD.

(k) Terminating Action for AD 2018-14-11, AD 2000-23-26, and AD 2008-04-19 R1

Accomplishing the actions required by this AD terminates all requirements of AD 2018-14-11, AD 2000-23-26, and AD 2008-04-19 R1.

(l) Other FAA AD Provisions

The following provisions also apply to this AD:

(1) Alternative Methods of Compliance (AMOCs): The Manager, International Section, Transport Standards Branch, FAA, has the authority to approve AMOCs for this AD, if requested using the procedures found in 14 CFR 39.19. In accordance with 14 CFR 39.19, send your request to your principal inspector or local Flight Standards District Office, as appropriate. If sending information directly to the International Section, send it to the attention of the person identified in paragraph (m)(2) of this AD. Information may be emailed to: 9-ANM-116-AMOC-REQUESTS@faa.gov. Before using any approved AMOC, notify your appropriate principal inspector, or lacking a principal inspector, the manager of the local flight standards district office/certificate holding district office.

(2) Contacting the Manufacturer: For any requirement in this AD to obtain corrective actions from a manufacturer, the action must be accomplished using a method approved by the Manager, International Section, Transport Standards Branch, FAA; or the European Aviation Safety Agency (EASA); or ATR-GIE Avions de Transport Régional's EASA Design Organization Approval (DOA). If approved by the DOA, the approval must include the DOA-authorized signature.

(m) Related Information

(1) Refer to Mandatory Continuing Airworthiness Information (MCAI) EASA AD 2018-0184, dated August 28, 2018, for related information. This MCAI may be found in the AD docket on the internet at http://www.regulations.gov by searching for and locating Docket No. FAA-2018-1069.

(2) For more information about this AD, contact Shahram Daneshmandi, Aerospace Engineer, International Section, Transport Standards Branch, FAA, 2200 South 216th St., Des Moines, WA 98198; telephone and fax 206-231-3220.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) ATR ATR72 Time Limits Document, Revision 16, dated January 30, 2018.

(ii) [Reserved]

(3) For service information identified in this AD, contact ATR-GIE Avions de Transport Régional, 1 Allée Pierre Nadot, 31712 Blagnac Cedex, France; telephone +33 (0) 5 62 21 62 21; fax +33 (0) 5 62 21 67 18; email continued.airworthiness@atr-aircraft.com.

(4) You may view this service information at the FAA, Transport Standards Branch, 2200 South 216th St., Des Moines, WA. For information on the availability of this material at the FAA, call 206-231-3195.

(5) You may view this service information that is incorporated by reference at the National Archives and Records Administration (NARA). For information on the availability of this material at NARA, call 202-741-6030, or go to: http://www.archives.gov/federal-register/cfr/ibr-locations.html.

Issued in Des Moines, Washington, on July 1, 2019.
Michael Kaszycki,
Acting Director, System Oversight Division, Aircraft Certification Service.

[FR Doc. 2019-15447 Filed 7-19-19; 8:45 am]

BILLING CODE 4910-13-P